DEPARTMENT OF HEALTH AND HUMAN SERVICES

Centers for Disease Control and Prevention

[60Day-03-43]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Work Organization, Cardiovascular Disease, and Depression Study—NEW—The National Institute for Occupational Safety and Health (NIOSH), Centers for Disease Control and Prevention (CDC).

Cardiovascular disease (CVD) and depression represent health problems of staggering proportion for the United States. An estimated 60 million Americans, over half of whom are younger than 65 years of age, currently have some form of CVD and nearly 20% of all Americans will experience at least one episode of major depression during their lifetimes. In economic terms, the total yearly costs of CVD and depression in the United States have been estimated at $327 billion and $43 billion, respectively.

In addition to being common and costly health problems, CVD and depression co-morbidity is frequent and recent studies have shown increased cardiovascular morbidity and mortality in depressed patients, implicating depression as a potential independent risk factor for CVD. Understanding the causes and etiologic relationships between these two illnesses represents a major challenge for public health researchers.

In addition to traditionally recognized risk factors, occupational factors appear to play a role in the etiology of both CVD and depression. For example, studies of occupational groups have shown markedly different rates of CVD and depression that are too large to be explained by known risk factors alone, and it is generally inferred that chemical, physical and/or work organizational exposures must be involved. While of relatively recent origins, the term “work organization” has evolved to serve as a rubric that encompasses diverse workplace exposures (often called job stressors) such as psychological demands, limited job control, work role demands and shift-work. There is considerable evidence that such factors play a role in the etiology of both CVD and depression, but design and sample size limitations of existing studies make it difficult to establish a causal association and make specific public health recommendations.

This proposed study will examine the relationships between specific job stressors, CVD and depression. To overcome the limitations of previous studies, we are proposing a five-year prospective study with a population of 20,000 workers, half of them women. Workers will be identified through 20 large businesses sampled from the four geographic Census regions of the U.S. Different types of businesses will be sampled in order to incorporate diverse types of jobs and work. Specific job stressors, perceived non-work stressors and general risk factors for CVD and depression will be assessed. To ascertain exposures and outcomes, the study will rely on employee medical records, blood samples, and both self-reports and work-site assessments of job conditions. Several instruments to evaluate the work environment will be used, including the NIOSH Generic Job Stress Questionnaire, which assess a variety of job stressors, as well as other relevant aspects of the work environment.

This request is for three years of the five-year proposed data collection with a total of 57,646 burden hours, and an estimated annualized burden of 19,215 hours. There is no cost to respondents.

Data | Number of respondents | Number of responses/respondent | Average burden/response (in hours) | Total burden (in hours)
Baseline Interview/Blood Collection Biometrics | 21,993 | 1 | 75/60 | 27,491
Medical Records for Baseline | 4,398 | 1 | 30/60 | 2,199
Follow-up Interview 1 | 17,594 | 1 | 30/60 | 8,797
Refusal Questionnaire | 4,399 | 1 | 5/60 | 367
Medical Records for Follow-up 1 | 3,519 | 1 | 30/60 | 1,760
Follow-up Interview 2 | 14,995 | 1 | 30/60 | 7,498
Refusal Questionnaire | 2,639 | 1 | 5/60 | 220
Medical Records for Follow-up 2 | 2,999 | 1 | 30/60 | 1,500
Follow-up Interview 3 | 12,712 | 1 | 30/60 | 6,356
Refusal Questionnaire | 2,243 | 1 | 5/60 | 187
Medical Records for Follow-up 3 | 2,542 | 1 | 30/60 | 1,271
Total |  |  |  | 57,646

Dated: February 18, 2003.
Thomas Bartenfeld,
Acting Associate Director for Policy, Planning and Evaluation, Centers for Disease Control and Prevention.

[FR Doc. 03-4598 Filed 2-26-03; 8:45 am]

BILLING CODE 4163-18-P